DEPARTMENT OF HEALTH AND HUMAN SERVICES

Health Resources and Services Administration

Advisory Committee on Training in Primary Care Medicine and Dentistry; Notice of Meeting

In accordance with section 10(a)(2) of the Federal Advisory Committee Act (Pub. L. 92-463), notice is hereby given of the following meeting:

Name: Advisory Committee on Training in Primary Care, Medicine and Dentistry (ACTPCMD).

Dates and Times: July 19, 2012, 8:30 a.m.-4:30 p.m. July 20, 2012, 8:00 a.m.-3:00 p.m.

Place: Hilton Washington DC/Rockville, Executive Meeting Center, 1750 Rockville Pike, Rockville, MD 20852.

SUPPLEMENTARY INFORMATION: Status: The meeting will be open to the public.

Purpose: The ACTPCMD provides advice and recommendations on a broad range of issues, as authorized by sections 222 and 749 of the Public Health Service Act, as amended by the Affordable Care Act.

At this meeting the ACTPCMD will continue work on a report on inter-professional education of primary care providers. Some meeting time will be allotted to performance measures of grant programs over which the ACTPCMD has legislative authority and a national faculty development initiative. The ACTPCMD's reports are submitted to the Secretary of the Department of Health and Human Services; the Committee on Health, Education, Labor and Pensions of the Senate; and the Committee on Energy and Commerce of the House of Representatives.

Agenda: The meeting on Thursday, July 19, 2012, will begin with opening comments from the Health Resources and Services Administration's (HRSA) senior officials. Presentations will be given by experts in family medicine, internal medicine, and pediatrics on a proposal to create a national faculty development initiative. The purpose of this HRSA-supported program is to train clinical educators on methods to teach and assess trainee competencies for twenty-first century practice. Following the presentations, time will be provided for discussion and comment by ACTPCMD members and for public comment. Next on the agenda, elections will be held for chair and two vice chairs. The ACTPCMD will continue work on its tenth report on inter-professional training of primary care providers with an update by the report's writing group, followed by small group assignments. At the end of the morning, new and current members will receive ethics training in a session closed to the public. The afternoon session will be devoted to small and large group work on the tenth report.

The meeting on July 20, 2012, will begin with an update on the Division of Medicine and Dentistry's development of performance measures and methods of longitudinal evaluation for Public Health Service Act Title VII, section 747 and 748 programs, after which the members will have an opportunity to provide comment. Members will continue work on the tenth report in both small and large groups. The afternoon session will include an update and an opportunity to make comment on grant activities within the Primary Care Medical Education Branch of HRSA's Bureau of Health Professions' Division of Medicine and Dentistry. The ACTPCMD will also plan for the next ACTPCMD webinar meeting in the fall, determine report work to be done in the interim, and discuss a potential topic for the next report. An opportunity will be provided for public comment at the end of each day.

FOR FURTHER INFORMATION CONTACT: For further information regarding ACTPCMD, to obtain a roster of members, minutes of the meeting, or other relevant information, contact Jerilyn K. Glass, M.D., Ph.D., Division of Medicine and Dentistry, Bureau of Health Professions, Health Resources and Services Administration, Room 9A-27, Parklawn Building, 5600 Fishers Lane, Rockville, Maryland 20857, Telephone (301) 443-7271. Information can also be found at the following Web site: http://www.hrsa.gov/advisorycommittees/bhpradvisory/actpcmd/index.html.

Dated: June 12, 2012.
Reva Harris,
Acting Director, Division of Policy Review and Coordination.

[FR Doc. 2012-14822 Filed 6-18-12; 8:45 am]

BILLING CODE 4165-15-P